DEPARTMENT OF DEFENSE

Department of the Army, Corps of Engineers

Availability of Draft Integrated Feasibility Report and Environmental Impact Statement for the Gulf Intracoastal Waterway: Brazos River Floodgates and Colorado River Locks Systems Feasibility Study, Brazos and Matagorda Counties, TX

AGENCY: Department of the Army, U.S. Army Corps of Engineers, DoD.

ACTION: Notice of availability.

SUMMARY: Pursuant to the National Environmental Policy Act (NEPA), the U.S. Army Corps of Engineers, Galveston District (USACE) announces the release of the Draft Integrated Feasibility Report and Environmental Impact Statement (DIFR-EIS) for the Recommended Plan of the Gulf Intracoastal Waterway (GIWW): Brazos River Floodgates (BRFG) and Colorado River Locks (CRL) Systems Feasibility Study, Brazos and Matagorda Counties, TX. The DIFR-EIS documents the existing condition of environmental resources in and around areas considered for development, and potential impacts on those resources as a result of implementing the alternatives.

DATES: The Galveston District will hold a public meeting for the DIFR-EIS on March 13, 2018 from 6:00-8:00 p.m. USACE will accept written public comments on the DIFR-EIS from February 26, 2018 to April 11, 2018. Comments on the DIFR-EIS must be postmarked by April 11, 2018.

ADDRESSES: The public meeting will be held at the West Columbia Civic Center, 516 E. Brazos Ave. (State Highway 35), West Columbia, TX 77486. Comments may be submitted at the public meeting or mailed to the District Engineer, P.O. Box 1229, Galveston, TX 77553. Comments may also be sent to the District Engineer via email at BRFG_CRL_FeasibilityStudy@usace.army.mil.

FOR FURTHER INFORMATION CONTACT: Galveston District Public Affairs Office at 409-766-3004 or swgpao@usace.army.mil.

SUPPLEMENTARY INFORMATION: Authority: The lead agency for this proposed action is USACE. This study has been prepared in response to the provision of funds in the Energy and Water Development Appropriations Act of 1998, under the authority of Section 216 of the 1970 Flood Control Act. The non-federal sponsor is the Texas Department of Transportation (TxDOT).

Background: The USACE, with input provided by the non-federal sponsor, TxDOT, and other Federal, State, and local resource agencies, prepared the GIWW BRFG/CRL DIFR-EIS. The GIWW BRFG/CRL study was recommended for feasibility level analysis after completion of a 2000 reconnaissance report entitled, GIWW Modifications, Texas Section 905(b) Analysis, to determine federal interest. It encompassed two locations on the GIWW along the Texas Coast. The BRFG is located about 7 miles southwest of Freeport, TX, at the crossings of the Brazos River and the GIWW in Brazoria County. The CRL are located near Matagorda, TX, at the intersection of the Colorado River and the GIWW in Matagorda County.

In 1940, six 75-foot-wide gated structures, which were designed to control flows and silt into the GIWW at the Brazos and Colorado Rivers, were completed. The gates are closed during higher flow events, which generally carry more sediments, thus reducing shoaling and therefore dredging in the GIWW. Although the structural improvements on both rivers helped to reduce shoaling, they created their own set of delays to navigation. The narrow opening of the gated structure creates an impedance to the flow of water causing the water to swell and rise locally, which accelerates the water through the structure, creating hazardous navigation conditions. At a certain level of swell, or head differential, navigation is deemed too hazardous and the river crossing is closed to navigation. The 75-foot-wide opening also requires tows that are assembled to two barges wide to break down to single wide to traverse the structures. The narrow gate opening and crossing geometry create hazardous cross currents and eddies, which when coupled with winds and other drivers are the cause for numerous vessel impacts (allisions) to the structures.

These problems combine to create massive average delays to navigation, which became the single-most important economic driver and decision point for the study process. The study process includes an in-depth investigation of the existing practices and conditions for navigation as well as an extrapolation of these practices and conditions into the future to establish a baseline, or without-project condition, to which all improvements, measures/alternatives, can be measured.

Recommended Plan: The Recommended Plan includes structural measures for both the Brazos and Colorado River crossings. The Brazos River crossing portion of the plan will be in the existing channel alignment with open channel on the west side and a gate structure (125 feet wide) on the east side. The open channel on the west side changes the river reactions and the overall sediment deposit distribution compared to the without-project condition. Modeling has determined that sediments will result in an increase of 8% in dredging volumes and costs above current levels. The current cost estimate for construction is approximately $147.8 million including contingencies.

The Colorado River crossing portion of the plan will also be in the existing channel alignment and include gate removal of the riverside gate structures while retaining the outer gates, creating a wider (125 feet) channel and much longer forebay, reducing barge allisions with the guidewalls. For the Colorado crossing, full gated structures remain, resulting in minimal changes to sediment distribution patterns. The current cost estimate for construction is approximately $36.9M including contingencies.

To quantitatively analyze and compare alternatives, monetized benefits of the alternatives were estimated using a stand-along model developed and approved for use by this study. Benefits were compared to costs to develop benefit-cost ratios (BCR) and net benefits estimates. The system BCR for the Recommended Plan is 2.5.

Project Impacts and Environmental Compliance: The recommended plan would result in the loss of approximately 6.0 acres of wetlands at the BRFG and 0.7 acre of wetlands at the CRL, primarily due to excavation of temporary bypass channels. The USACE would provide onsite mitigation for the impacted wetlands in the form of wetland creation. The proposed project is not expected to adversely affect federally listed threatened or endangered species. A net increase in sedimentation would occur at the BRFG as a result of the Recommended Plan, and maintenance dredging would be needed to prevent or reduce shoaling due to natural sediment deposition processes.

Potential hazardous, toxic, and radioactive waste (HTRW) concerns may occur at the BRFG and CRL facilities, such as possible lead paint on the structures and potential for contaminants in sediment deposits in the areas. These areas will be tested as appropriate and, depending on the sediment sample results, there will be additional efforts for disposal, treatment, or additional health and safety requirements during construction.

The impact analysis determined there would be only minor impacts to soils and waterbottoms, water quality, turbidity, protected wildlife species (i.e., marine mammals, bald and golden eagles, and migratory birds), benthic organisms, commercial and recreational fisheries, essential fish habitat, coastal barrier resources, air quality, and noise. No impacts to floodplains and flood control, salinity levels, protected/managed lands, or historic and cultural resources are anticipated. No impacts to minority or low-income populations are expected, and the proposed project would provide a long-term economic benefit to the shipping industry by making travel through the BRFG and CRL more efficient. Coordination is ongoing with applicable Federal and State agencies regarding potential project impacts and environmental compliance.

Solicitation of Comments: The USACE is soliciting comments from the public, Federal, State, and local agencies and officials, Indian tribes, and other interested parties in order to consider and evaluate the impacts of this proposed activity. Comments will be used in preparation of the Final Integrated Feasibility Report and Environmental Impact Statement.

Document Availability: Compact disc copies of the DIFR-EIS are available for viewing at the following libraries:

• Brazoria Library, 620 South Brooks, Brazoria, TX 77422

• Clute Branch Library, 215 North Shanks Street, Clute, TX 77531

• Freeport Library, 410 Brazosport Blvd., Freeport, TX 77541

• Lake Jackson Library, 250 Circle Way, Lake Jackson, TX 77566

• West Columbia Branch Library, 518 East Brazos, West Columbia, TX 77486

• Bay City Public Library, 1100 7th Street, Bay City, TX 77414

• Matagorda Branch Library, 800 Fisher Street, Matagorda, TX 77457

The document can also be viewed and downloaded from the Galveston District website: http://www.swg.usace.army.mil/Business-With-Us/Planning-Environmental-Branch/Documents-for-Public-Review/.

Arnold R. Newman,
Acting Director, Regional Planning and Environmental Center.

[FR Doc. 2018-03852 Filed 2-23-18; 8:45 am]

BILLING CODE 3720-58-P